DEPARTMENT OF JUSTICE

[OMB Number 1121-NEW]

Agency Information Collection Activities; Proposed eCollection eComments Requested; New Collection: Analysis of Publicly Available Court Data (APACD)

AGENCY: Bureau of Justice Statistics, Department of Justice.

ACTION: 60-Day notice.

SUMMARY: The Department of Justice (DOJ), Office of Justice Programs, Bureau of Justice Statistics (BJS), will be submitting the following information collection request to the Office of Management and Budget (OMB) for review and approval in accordance with the Paperwork Reduction Act of 1995.

DATES: Comments are encouraged and will be accepted for 60 days until December 23, 2019.

FOR FURTHER INFORMATION CONTACT: If you have additional comments especially on the estimated public burden or associated response time, suggestions, or need a copy of the proposed information collection instrument with instructions or additional information, please contact Suzanne Strong, Statistician, Prosecution and Judicial Statistics Unit, Bureau of Justice Statistics, 810 Seventh Street NW, Washington, DC 20531 (email: Suzanne.M.Strong@usdoj.gov; telephone: 202-616-3666).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New collection.

(2) The Title of the Form/Collection: Analysis of Publicly Available Court Data (APACD).

(3) The agency form number, if any, and the applicable component of the Department sponsoring the collection: The Data Extraction Guide is APACD-001. The applicable component within the Department of Justice is the Bureau of Justice Statistics, in the Office of Justice Programs.

(4) Affected public who will be asked or required to respond, as well as a brief abstract: Respondents will be court administrators or their information technology (IT) staff within state or county courts. Abstract: Among other responsibilities, the Bureau of Justice Statistics is charged with collecting data regarding the prosecution of crimes by state and federal offices. This effort is directed towards state and county courts regarding the processing of criminal felony and misdemeanor cases in courts of limited and general jurisdiction. The APACD will collect information from state and county courts by requesting data extracts of court case management systems. Thirty-one states and the District of Columbia have statewide court case management systems. An additional five states have a majority of counties included, with one to four counties missing from the statewide case management systems, for a total of 10 additional counties needed to complete the almost-statewide systems. The remaining fourteen states and Puerto Rico do not have statewide case management systems, or at least not statewide systems that cover most of the state.

BJS will request complete records from the statewide and mostly-statewide systems, with separate requests to the counties not included in the mostly statewide systems. BJS will also sample counties from the states unable to provide statewide extracts. The requests will sample with certainty any county with a total resident population exceeding one million persons.

This is BJS's first collection from state courts since the Survey of Juveniles Charged in Adult Criminal Courts effort in 2014. BJS is requesting that the extracts include all felony and misdemeanor criminal cases disposed of by December 31, 2019. BJS is also requesting that the extracts include defendant demographics; information about charges, hearings, disposition, and sentences; attorney information; diversion and problem-solving court information; and whether a bench warrant was issued during the case. State and local courts can provide the data extract or extracts in any format.

(5) An estimate of the total number of respondents and the amount of time estimated for an average respondent to respond: BJS will send a data extraction guide to a total of 150 jurisdictions. The 150 jurisdictions include 36 states (including 10 counties that are not included in the statewide case management systems) and the District of Columbia, 23 counties with total populations exceeding 1,000,000 residents, and 80 sampled counties representing the 14 states and Puerto Rico that cannot provide statewide data. The expected burden placed on these jurisdictions is about 30 hours per jurisdiction, with an additional 10 hours to explain any data inconsistencies or questions of the data collection team.

(6) An estimate of the total public burden (in hours) associated with the collection: The total respondent burden is approximately 6,000 burden hours for the 150 jurisdictions.

If additional information is required contact: Melody Braswell, Department Clearance Officer, United States Department of Justice, Justice Management Division, Policy and Planning Staff, Two Constitution Square, 145 N Street NE, 3E.405A, Washington, DC 20530.

Dated: October 18, 2019.
Melody Braswell,
Department Clearance Officer for PRA, U.S. Department of Justice.

[FR Doc. 2019-23092 Filed 10-22-19; 8:45 am]

BILLING CODE 4410-18-P